ENVIRONMENTAL PROTECTION AGENCY

[FRL-9952-14-OA]

Children's Health Protection Advisory Committee

AGENCY: Environmental Protection Agency (EPA).

ACTION: Request for nominations to the Children's Health Protection Advisory Committee.

SUMMARY: The U.S. Environmental Protection Agency (EPA) invites nominations from a range of qualified candidates for consideration for appointment to its Children's Health Protection Advisory Committee (CHPAC). The EPA anticipates filling vacancies by March 1, 2017. The EPA may also use sources in addition to this Federal Register Notice to solicit nominees.

Background: The Children's Health Protection Advisory Committee is chartered under the Federal Advisory Committee Act (FACA), Public Law 92-463. EPA established this Committee in 1997 to provide independent advice to the EPA Administrator on a broad range of environmental issues affecting children's health.

The EPA Administrator appoints members for three-year terms with a cap on service at six years. The Committee meets 2-3 times annually and the average workload is approximately 10 to 15 hours per month. EPA provides reimbursement for travel and other incidental expenses associated with official government business, but members must be able to cover expenses prior to reimbursement.

The CHPAC is looking for representatives from the private sector, academia non-governmental organizations, public-health practitioners, pediatricians, obstetric professionals, occupational medicine practitioners and community nurses. We are also seeking representatives from environmental groups, health groups, health research, the fields of epidemiology and toxicology, and tribal, state, county and local government.

We are looking for experience in children's environmental health policy, research, and in specific issues such as lead poisoning and asthma, prenatal environmental exposures, chemical exposures, public health information tracking, knowledge of EPA regulation development, risk assessment, exposure assessment, tribal children's environmental health and children's environmental health disparities. The EPA encourages nominations from all racial and ethnic groups.

The EPA will use the following criteria to evaluate nominees:

—The ability of candidate to effectively contribute to discussions and provide useful recommendations on the following issues:

Risk assessment, exposure assessment and children's health; Air quality, both indoor and outdoor, regulations, policies, outreach and communication;

Water quality, regulations, policies, outreach and communication; Prenatal exposures and health outcomes;

Chemical exposures, pesticide exposures, health outcomes, policy and regulation;

Asthma disparities and other environmental health disparities; Data and information collection issues;

Lead, mercury and other heavy metal concerns for children's health;

Exposures that affect children's health in homes, schools, and child care centers;

Building capacity among health providers to prevent, diagnose and treat environmental health conditions in children.

—The background and experience that would contribute to the diversity of perspectives on the committee (e.g., geographic, economic, social, cultural, educational, and other considerations).

—Ability to volunteer time to attend meetings 2-3 times a year in Washington DC, participate in teleconference meetings, develop recommendations to the Administrator, and prepare reports and advice letters.

Nominations must include:

• Brief statement describing the nominee's interest in serving on the CHPAC.

• Short biography (no more than one page) describing the professional and educational qualifications, including a list of relevant activities, and any current or previous service on federal advisory committees.

• Attestation that nominee is not a lobbyist.

• Statement about the perspective and diversity the nominee brings to the committee.

• Current contact information for the nominee, including the nominee's name, organization (and position within that organization), current business address, email address, and daytime telephone number.

• Candidates may self-nominate; one letter of support is welcome.

Submit nominations by September 27, 2016 by email to EPA_CHPAC@icfi.com or mail to Martha Berger, Designated Federal Officer, Office of Children's Health Protection, U.S. Environmental Protection Agency, Mail Code 1107T, 1301 Constitution Avenue NW., Washington, DC 20460.

FOR FURTHER INFORMATION CONTACT: Martha Berger, Designated Federal Officer, U.S. EPA; telephone (202) 564-2191 or berger.martha@epa.gov.

Dated: September 6, 2016.
Martha Berger,
Designated Federal Officer.

[FR Doc. 2016-22124 Filed 9-14-16; 8:45 am]

BILLING CODE 6560-50-P